INTERNATIONAL TRADE COMMISSION

[Investigation Nos. 701-TA-475 and 731-TA-1177 (Final)]

Certain Aluminum Extrusions From China

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is materially injured by reason of imports of certain aluminum extrusions from China other than finished heat sinks, provided for in subheadings 7604.21, 7604.29, and 7608.20 of the Harmonized Tariff Schedule of the United States, that the U.S. Department of Commerce (“Commerce”) has determined are subsidized and sold in the United States at less than fair value (“LTFV”).² The Commission further determined that an industry in the United States is not materially injured or threatened with material injury, or that the establishment of an industry in the United States is not materially retarded, by reason of imports of finished heat sinks from China.3 4

¹ The record is defined in sec. 207.2(f) of the Commission's Rules of Practice and Procedure (19 CFR 207.2(f)).

² All six Commissioners voted in the affirmative.

³ Because they do not find that finished heat sinks are a separate domestic like product, Vice Chairman Irving A. Williamson and Commissioner Charlotte R. Lane do not join in this determination.

⁴ Finished heat sinks are fabricated heat sinks, sold to electronics manufacturers, the design and production of which are organized around meeting certain specified thermal performance requirements and which have been fully, albeit not necessarily individually, tested to comply with such requirements.

Background

The Commission instituted these investigations effective March 31, 2010, following receipt of a petition filed with the Commission and Commerce by Aluminum Extrusions Fair Trade Committee and the United Steel, Paper and Forestry, Rubber, Manufacturing, Energy, Allied Industrial and Service Workers International Union. The final phase of the investigations was scheduled by the Commission following notification of a preliminary determinations by Commerce that imports of certain aluminum extrusions from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 22, 2010 (75 FR 80527). The hearing was held in Washington, DC, on March 29, 2011, and all persons who requested the opportunity were permitted to appear in person or by counsel.

The Commission transmitted its determinations in these investigations to the Secretary of Commerce on May 13, 2011. The views of the Commission are contained in USITC Publication 4229 (May 2011), entitled Certain Aluminum Extrusions from China: Investigation Nos. 701-TA-475 and 731-TA-1177 (Final).

By order of the Commission.
Issued: May 13, 2011.
James R. Holbein,
Acting Secretary to the Commission.

[FR Doc. 2011-12276 Filed 5-18-11; 8:45 am]

BILLING CODE P